DEPARTMENT OF HEALTH AND HUMAN SERVICES

Centers for Disease Control and Prevention

[30Day-07-05CH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

An assessment of the determinants of HIV risk factors for African-American and Hispanic women in the southeastern United States—New—the National Center for HIV/AIDS, STD and TB Prevention (NCHSTP), Centers for Disease Control and Prevention (CDC).

Background and Brief Description

In the United States, an estimated 1 million people are living with HIV. About 40,000 new HIV infections occur each year. Women account for about 27% of all new HIV/AIDS diagnoses, with women of color in the South being most affected. Women of color represent 80% of all women estimated to be living with HIV/AIDS. In 2004, the rate HIV/AIDS cases per 100,000 for non-Hispanic African-American adult and adolescent females (67.0) was 21 times higher than that for non-Hispanic white females (3.2). Similarly, the rate of HIV/AIDS cases reported in 2004 for Hispanic women (16.3) was 5 times higher than the rate for non-Hispanic white women.

Limited research data suggest that the character and dynamics of women's sexual relationships, gender relationships, sex roles, and experiences related to race and ethnicity may be important determinants of risk, both for engaging in risk behaviors and for doing so with high-risk partners. In addition, women's vulnerability is connected to a variety of socioeconomic factors, including delayed access to care and support for HIV/AIDS. Accordingly, the specific aims of the study are to:

• Enroll 850 African-American and 500 Hispanic women at risk for HIV infection in a one-time survey.

• Conduct rapid oral HIV testing of all women and facilitate linkage to medical care among those identified as HIV-positive.

• Characterize African-American and Hispanic women on demographic, psychological, behavioral, sociocultural, and environmental/contextual dimensions.

• Assess and compare the prevalence of sexual and drug behaviors of African American and Hispanic women.

• Identify characteristics of African-American and Hispanic women associated with sexual behaviors that place them at risk for contracting HIV. Similarly, identify characteristics that protect against becoming infected with HIV.

• Recruit a sub-sample of survey respondents to take in a qualitative interview.

• Use our findings to provide recommendations on the design of behavioral interventions for African American and Hispanic women.

Women will complete a 10-minute eligibility screening interview. The survey interview will take approximately 45 minutes each to complete for those who agree to participate in the study and 10 minutes to complete for those who refuse to enroll. Women completing the survey will take part in a 45 minute HIV counseling and testing session, which will be followed by a 10-minute training for how to refer other women to the project. The qualitative interview will take approximately one hour to complete. The total response burden for the three-year period is estimated to be 2712.39 hours (904.13 annualized burden hours). There is no cost to respondents except for their time.

Estimated Annualized Burden Hours
Activity with women volunteers | Number of respondents | Number of responses per respondent | Average burden per response (hours)
Venue intercept interview | 125 | 1 | 3/60
Eligibility screening interview | 675 | 1 | 10/60
Refusal questionnaire | 90 | 1 | 10/60
ACASI survey interview | 450 | 1 | 45/60
HIV Testing & Counseling | 450 | 1 | 45/60
RDS Training | 450 | 1 | 10/60
Qualitative interview | 20 | 1 | 1

Dated: June 29, 2007.
Maryam I. Daneshvar, PhD,
Acting Reports Clearance Officer, Centers for Disease Control and Prevention.

[FR Doc. E7-13243 Filed 7-6-07; 8:45 am]

BILLING CODE 4163-18-P